DEPARTMENT OF COMMERCE

National Oceanic and Atmospheric Administration

RIN 0648-XF956

Fisheries of the South Atlantic; South Atlantic Fishery Management Council; Public Meeting

AGENCY: National Marine Fisheries Service (NMFS), National Oceanic and Atmospheric Administration (NOAA), Commerce.

ACTION: Notice of a public meeting of the South Atlantic Fishery Management Council's (Council) Scientific and Statistical Committee (SSC) Socio-Economic Panel (SEP).

SUMMARY: The Council will hold a meeting of its SSC SEP to receive updates on fisheries issues being addressed by the Council and provide recommendations as appropriate. See SUPPLEMENTARY INFORMATION.

DATES: The SEP meeting will be held February 6, 2018, from 1 p.m. until 5 p.m. and February 7, 2018, from 9 a.m. to 12:30 p.m.

ADDRESSES:

Meeting address: The meeting will be held at the Crowne Plaza Hotel, 4831 Tanger Outlet Boulevard, North Charleston, SC 29418; phone: (843) 744-4422. The meeting is open to members of the public. The meeting will also be available via webinar. Registration is required. Registration information will be posted on the Council's website at http://safmc.net/safmc-meetings/scientific-and-statistical-committee-meetings/ as it becomes available.

Council address: South Atlantic Fishery Management Council, 4055 Faber Place Drive, Suite 201, N. Charleston, SC 29405.

FOR FURTHER INFORMATION CONTACT: John Hadley; 4055 Faber Place Drive, Suite 201, North Charleston, SC 29405; phone: (843) 571-4366 or toll free: (866) SAFMC-10; fax: (843) 769-4520; email: john.hadley@safmc.net.

SUPPLEMENTARY INFORMATION: The following items will be discussed by the SEP during the meeting:

1. An update on recent Council actions and the Council's Citizen Science Program;

2. Review and discussion of the recent review of the Council's Individual Transferable Quota (ITQ) Program for the Wreckfish fishery;

3. Discussion on recreational reporting as proposed in Amendment 46 to the Snapper Grouper Fishery Management Plan for the South Atlantic;

4. A review of the outline for a socio-economic report of the Council's managed fisheries;

5. Discussion on fishing trip metrics used to estimate the economic impacts of recreational fisheries for species managed by the Council; and

6. A presentation of the results from the Socio-Economic Profile of the Commercial Snapper Grouper Fishery in the South Atlantic.

The SEP will provide recommendations on agenda items as appropriate. Agenda items are subject to change. A public comment period on agenda items will be held at the beginning and end of the meeting.

Written comment on SEP agenda topics is to be distributed to the Committee through the Council office, similar to all other briefing materials. Written comment to be considered by the SEP shall be provided to the Council office no later than one week prior to the SEP meeting. For this meeting the deadline for submission of written comment is 12 p.m., Tuesday, January 30, 2018. An online comment form will be posted as it becomes available at the Council's website at: http://safmc.net/safmc-meetings/scientific-and-statistical-committee-meetings/.

Special Accommodations

These meetings are physically accessible to people with disabilities. Requests for sign language interpretation or other auxiliary aids should be directed to the Council office (see ADDRESSES) at least 5 business days prior to the meeting.

Note: The times and sequence specified in this agenda are subject to change.

Authority: 16 U.S.C. 1801 et seq.

Dated: January 12, 2018.
Tracey L. Thompson,
Acting Deputy Director, Office of Sustainable Fisheries, National Marine Fisheries Service.

[FR Doc. 2018-00762 Filed 1-17-18; 8:45 am]

BILLING CODE 3510-22-P